MERIT SYSTEMS PROTECTION BOARD

Variation From Normal Procedures—Effects of Hurricane Katrina

AGENCY: Merit Systems Protection Board.

ACTION: Notice.

SUMMARY: Notice is hereby given of variations from the Board's normal case processing procedures as a result of Hurricane Katrina and the related relief efforts in the gulf coast region of the United States.

DATES: This rule is effective September 14, 2005.

FOR FURTHER INFORMATION CONTACT: Bentley M. Roberts, Jr., Clerk of the Board, Merit Systems Protection Board, 1615 M Street, NW., Washington, DC 20419; (202) 653-7200; fax: (202) 653-7130; or e-mail: mspb@mspb.gov.

SUPPLEMENTARY INFORMATION: The Merit Systems Protection Board is providing notice of variations in its normal case processing procedures that have been placed into effect as a result of Hurricane Katrina and the related relief efforts in the gulf coast region of the United States.

The Board's adjudicatory regulations contain time limits for filing documents in Federal employee appeals of agency personnel actions and other matters within the Board's jurisdiction. In addition, MSPB judges issue various orders in the course of an adjudicatory proceeding that set time limits for responses by the parties. The Board's regulations permit five methods of filing and serving documents—regular mail, commercial overnight delivery, facsimile, e-filing, and personal delivery to the appropriate MSPB office. The date of filing by regular mail is determined by the postmark date. For filing by commercial overnight delivery, it is the date the document is delivered to the commercial overnight delivery service. For filing by facsimile, it is the date recorded on the facsimile transmission. For filing electronically, it is the date of the electronic submission. For filing by personal delivery, it is the date the MSPB office receives the document.

At the time of Hurricane Katrina and the related devastation, there were approximately 1,800 cases pending in MSPB regional and field offices and almost 800 cases pending at the Board's headquarters in Washington. It is reasonable to assume, therefore, that a number of filings due to a MSPB office in early September 2005 could not be made in a timely manner. An unknown number of filings of new cases subject to filing deadlines falling in early September, 2005, also may have been affected by the events surrounding Hurricane Katrina.

Several circumstances may have affected filings due in early September, 2005 including the closing of Federal agencies and the displacement of Federal employees in the affected areas.

Accordingly, the Board has placed into effect the following variations from its normal case processing procedures:

1. In MSPB regional and field offices, judges will exercise discretion in accepting filings due in early September, 2005, and for the foreseeable future, that were filed (by any filing method) after the deadline, particularly from the gulf coast region of the United States.

2. At Board headquarters, the Clerk of the Board will exercise discretion in accepting filings due in early September, 2005, and for the foreseeable future, that were filed after the deadline. Normally, a show cause order is issued when a late filing is received, but the Clerk of the Board may accept certain filings, particularly from the gulf coast region of the United States, without issuing a show cause order.

3. Where MSPB case files or evidence were lost or destroyed as a result of devastation by Hurricane Katrina, MSPB judges may grant appropriate continuances until the case files or evidence can be reconstructed or dismiss cases without prejudice to their later re-filing. MSPB offices will also assist the parties in reconstructing case files.

The Board and its employees throughout the country will accommodate parties to MSPB cases whose ability to pursue those cases was affected by Hurricane Katrina. Where the variations from normal case processing procedures set forth above do not adequately address the circumstances in an individual case, the individual circumstances, and appropriate solutions, will be considered on a case-by-case basis. The Board and MSPB judges may waive any Board regulation the application of which is not required by law.

Dated: September 9, 2005.
Bentley M. Roberts, Jr.,
Clerk of the Board.

[FR Doc. 05-18256 Filed 9-13-05; 8:45 am]

BILLING CODE 7400-01-P